DEPARTMENT OF HEALTH AND HUMAN SERVICES

National Institutes of Health

National Institute of Neurological Disorders and Stroke; Amended Notice of Meeting

Notice is hereby given of a change in the meeting of the Board of Scientific Counselors, National Institute of Neurological Disorders and Stroke, June 21, 2020, 06:00 p.m. to June 23, 2020, 12:00 p.m., National Institutes of Health, Bethesda, MD, 20814 which was published in the Federal Register on November 15, 2019, 84FR62543.

This meeting notice is amended to change the meeting format from in-person to video assisted meeting. The meeting is closed to the public.

Dated: May 7, 2020.
Tyeshia M. Roberson,
Program Analyst, Office of Federal Advisory Committee Policy.

[FR Doc. 2020-10133 Filed 5-11-20; 8:45 am]

BILLING CODE 4140-01-P